DEPARTMENT OF COMMERCE

National Oceanic and Atmospheric Administration

[I.D. 010803B]

Issuance of Permits

AGENCY: National Marine Fisheries Service (NMFS), National Oceanic and Atmospheric Administration, Commerce.

ACTION: Issuance of Permits 1400, 1407, 1414, 1431, 1467, and Modification 1 to Permit 1288.

SUMMARY: NMFS has issued Permit 1400 to Wildlands, Inc., Permit 1407 to California Department of Fish and Game, Permit 1414 to East Bay Municipal Utility District, Permit 1431 to California Department of Water Resources, Permit 1467 to Dr. Peter Klimley, and Modification 1 to Permit 1288 to Dynamac, Inc./U.S. Environmental Protection Agency.

ADDRESSES: Copies of the permit may be obtained from the Protected Resources Division, NMFS, 650 Capitol Mall, Suite 8-300, Sacramento, CA 95814, or e-mail your request to: FRNpermits.sac@noaa.gov. Comments may also be submitted electronically through the Federal e-Rulemaking Portal: http:www.regulations.gov.

FOR FURTHER INFORMATION CONTACT: Rosalie del Rosario at phone number 916-930-3614, or e-mail: Rosalie.delRosario@noaa.gov.

SUPPLEMENTARY INFORMATION: This notice is relevant to federally endangered Sacramento River winter-run Chinook salmon (Oncorhynchus tshawytscha), threatened Central Valley spring-run Chinook salmon (O. tshawytscha), and/or threatened Central Valley steelhead (O. mykiss).

Permits

Permit 1400 was issued to Wildlands, Inc. on March 14, 2004, authorizing capture (by beach seine, nets) and release of ESA-listed juvenile and adult Sacramento River winter-run Chinook salmon, Central Valley spring-run Chinook salmon, and Central Valley steelhead from waters within the restored wetlands complex on Kimball Island in the Sacramento-San Joaquin Delta. Permit 1400 authorizes unintentional mortality associated with research activities not to exceed 3 percent of the captured ESA-listed fish. The results of this study will provide fish and habitat data to develop conceptual models relating fish usage to habitat type by species, life stage, and native/non-native status. Permit 1400 expires January 1, 2009.

Permit 1407 was issued to California Department of Fish and Game on April 13, 2004, authorizing capture and release of juvenile Sacramento River winter-run Chinook salmon from a rotary screw trap located within the Sutter Bypass portion of lower Butte Creek. Lethal take of the fish associated with the study is not to exceed 2 percent of captured winter-run Chinook salmon fish. The purpose of the project is to study the life history of Central Valley spring-run Chinook salmon in Butte and Big Chico Creeks (under an existing permit), and may subsequently capture juvenile winter-run Chinook salmon. Permit 1407 expires June 30, 2009.

Permit 1414 was issued to East Bay Municipal Utility District on April 13, 2004, authorizing capture (by trapping, electrofishing) and release of adult and juvenile Central Valley steelhead associated with monitoring fish populations to measure the success of the Lower Mokelumne River Restoration Program. Permit 1414 authorizes lethal take of up to 5 adult and 45 juvenile Central Valley steelhead. Permit 1414 expires June 30, 2008.

Permit 1431 was issued to California Department of Water Resources on June 21, 2004, authorizing capture (by angling, trapping, tagging, electrofishing) and release of Central Valley spring-run Chinook salmon and Central Valley steelhead associated with research evaluating the effects of the Oroville-Thermalito Complex operation on anadromous fishes in the lower Feather River. Lethal take is not to exceed five adult Central Valley spring-run Chinook salmon, and five adult and 25 juvenile Central Valley steelhead. Permit 1431 expires June 30, 2009.

Permit 1467 was issued to Dr. Peter Klimley of the University of California at Davis on April 6, 2004, authorizing unintentional capture (by nets) and release of Sacramento River winter-run Chinook salmon, Central Valley spring-run Chinook salmon, and Central Valley steelhead associated with research involving capture of green sturgeon (Acipenser medirostris) in the San Francisco Estuary and upper Sacramento River. Permit 1467 authorizes unintentional mortality of up to two adult winter-run Chinook salmon, five adult spring-run Chinook salmon, and one adult steelhead. Permit 1467 expires June 30, 2008.

Modification 1 to Permit 1288 was issued to Dynamac Corporation/U.S. Environmental Protection Agency on May 26, 2004, authorizing unintentional capture (by electrofishing) and release of Sacramento River winter-run Chinook salmon, Central Valley spring-run Chinook salmon, and Central Valley steelhead associated with biological assessments of the Sacramento, Mokleumne, and San Joaquin Rivers. Modification 1 to Permit 1288 authorizes unintentional mortality of up to one juvenile Sacramento River winter-run Chinook salmon, one juvenile Central Valley spring-run Chinook salmon, and three juvenile and one adult Central Valley steelhead. Modification1 to Permit 1288 expires November 30, 2004.

NMFS has determined that take levels authorized in the permits will not jeopardize listed salmon and steelhead nor result in the destruction or adverse modification of critical habitat where described.

NMFS' conditions in the permit will ensure that the take of ESA-listed anadromous fish will not jeopardize the continued existence of the listed species. Issuance of this permit, as required by the ESA, was based on a finding that the permit: (1) was applied for in good faith; (2) will not operate to the disadvantage of the listed species which are the subject of the permit; and (3) is consistent with the purposes and policies set forth in section 2 of the ESA. This permit was issued in accordance with, and is subject to, 50 CFR part 222, the NMFS regulations governing listed species permits.

Dated: June 28, 2004.
Phil Williams,
Chief, Endangered Species Division, Office of Protected Resources, National Marine Fisheries Service.

[FR Doc. 04-15182 Filed 7-2-04; 8:45 am]

BILLING CODE 3510-22-S